ENVIRONMENTAL PROTECTION AGENCY

[FRL-10020-03-Region 1]

Bona Fide Prospective Purchaser Proposed Settlement Agreement and Covenant Not To Sue Pursuant to the Comprehensive Environmental Response, Compensation, and Liability Act of 1980, as Amended by the Superfund Amendments and Reauthorization Act of 1986; In Re: Mohawk Tannery Site, Located in Nashua, New Hampshire

AGENCY: Environmental Protection Agency (EPA).

ACTION: Notice of proposed settlement agreement; request for public comment.

SUMMARY: The Environmental Protection Agency (EPA) is hereby providing notice of a proposed settlement agreement concerning the Mohawk Tannery Site in Nashua, New Hampshire. The settlement agreement is entered into pursuant to the Comprehensive Environmental Response, Compensation, and Liability Act, as amended (“CERCLA”), and the authority of the Attorney General of the United States to compromise and settle claims of the United States. The proposed settlement agreement is between the U.S. Environmental Protection Agency (“EPA”) and bona fide prospective purchaser Blaylock Holdings, LLC (“Settling Party”). The proposed Settlement Agreement requires the Settling Party to conduct work under EPA oversight in exchange for a covenant not to sue pursuant to sections 106 and 107(a) of CERCLA, for existing contamination at the Mohawk Tannery Site. The Settlement provides the Settling Party with pre-authorized mixed funding for the work. The Settling Party consents to and will not contest the authority of the United States to enter into this Agreement or to implement or enforce its terms. The Settling Parties recognize that this Agreement has been negotiated in good faith and that this Agreement is entered into without the admission or adjudication of any issue of fact or law.

DATES: EPA will receive written comments relating to the settlement until March 15, 2021. The Agency will consider all comments received and may modify or withdraw its consent to the settlement if comments received disclose facts or considerations which indicate that the settlement is inappropriate, improper, or inadequate.

ADDRESSES: Comments should be sent via email and addressed to RuthAnn Sherman, Senior Enforcement Counsel, Office of Regional Counsel, U.S. EPA Region 1, 5 Post Office Square, Suite 100, Boston, MA 02109 at email sherman.ruthann@eap.gov. Comments should refer to: In the Matter of: Mohawk Tannery Site, U.S. EPA Region 1, Docket No. CERCLA-01-2020-0063.

FOR FURTHER INFORMATION CONTACT: The proposed settlement and additional background information relating to the settlement are available for public inspection at the U.S. EPA Region 1 OSRR Records and Information Center, 5 Post Office Square, Suite 100, Boston, MA 02109. In addition, a copy of the proposed settlement agreement can be obtained from RuthAnn Sherman, U.S. Environmental Protection Agency, Region I, 5 Post Office Square, Suite 100, Boston, MA 02109; 617-918-1886; sherman.ruthann@epa.gov. Additional information on the Mohawk Tannery Site can be found through the U.S. EPA Region I website at: epa.gov/superfund/mohawk.

Bryan Olson,
Director, Superfund and Emergency Management Division, U.S. EPA, Region I.

[FR Doc. 2021-02887 Filed 2-11-21; 8:45 am]

BILLING CODE 6560-50-P